DEPARTMENT OF VETERANS AFFAIRS

Geriatrics and Gerontology Advisory Committee; Notice of Meeting

The Department of Veterans Affairs gives notice under Public Law 92-463 (Federal Advisory Committee Act) that a meeting of the Geriatrics and Gerontology Advisory Committee (GGAC) will be held on May 14, 2004, at the Department of Veterans Affairs Central Office, 810 Vermont Avenue, NW., Washington, DC. The meeting will convene in Room 730 at 8:30 a.m. and conclude at 4:30 p.m. The meeting is open to the public.

The purpose of the Committee is to provide advice to the Secretary of Veterans Affairs and the Under Secretary for Health on all matters pertaining to geriatrics and gerontology by assessing the capability of VA health care facilities to meet the medical, psychological and social needs of older veterans and by evaluating VA facilities designated as Geriatric Research, Education and Clinical Centers (GRECCs).

The meeting will feature presentations by the Under Secretary for Health and several Chief Consultants within the Veterans Health Administration. Those presentations will include an overview of VA's geriatrics program and briefings on geriatrics training, geriatrics research initiatives, GREC site visits in 2002-2004, and long range plans for the GGAC.

No time will be allocated at this meeting for receiving oral presentations from the public. Interested parties can provide written comments for review by the Committee in advance to the meeting to Mr. Daniel Converse, Designated Federal Officer, Geriatrics and Extended Care Strategic Healthcare Group (114), Department of Veterans Affairs, 810 Vermont Avenue, NW., Washington, DC 20420. Individuals who wish to attend the meeting should contact Ms. Jacqueline Holmes, Staff Assistant, at (202) 273-8539.

Dated: April 6, 2004.
By Direction of the Secretary.
E. Philip Riggin,
Committee Management Officer.

[FR Doc. 04-8657 Filed 4-15-04; 8:45 am]

BILLING CODE 8320-01-M